DEPARTMENT OF THE INTERIOR

National Park Service

[NPS-WASO-NAGPRA-NPS0036671; PPWOCRADN0-PCU00RP14.R50000]

Notice of Inventory Completion: U.S. Department of the Interior, National Park Service, Sequoia and Kings Canyon National Parks, Three Rivers, CA

AGENCY: National Park Service, Interior.

ACTION: Notice.

SUMMARY: In accordance with the Native American Graves Protection and Repatriation Act (NAGPRA), the U.S. Department of the Interior, National Park Service, Sequoia and Kings Canyon National Parks (SEKI) has completed an inventory of human remains and associated funerary objects and has determined that there is a cultural affiliation between the human remains and associated funerary objects and Indian Tribes or Native Hawaiian organizations in this notice. The human remains and associated funerary objects were removed from Tulare County, CA.

DATES: Repatriation of the human remains and associated funerary objects in this notice may occur on or after October 30, 2023.

ADDRESSES: Clayton Jordan, Superintendent, Sequoia and Kings Canyon National Parks, 47050 Generals Highway, Three Rivers, CA 93271, telephone (559) 565-3101, email clayton_jordan@nps.gov.

SUPPLEMENTARY INFORMATION: This notice is published as part of the National Park Service's administrative responsibilities under NAGPRA. The determinations in this notice are the sole responsibility of the Superintendent, SEKI. Additional information on the determinations in this notice, including the results of consultation, can be found in the inventory or related records held by SEKI.

Description

Human remains representing, at minimum, four individuals were removed from Tulare County, CA, in 1960 through archeological excavations undertaken at the Hospital Rock site by Jay von Werlholf from the College of the Sequoias. All materials collected from the site were held at the College of the Sequoias until 1961 when the human remains were transferred to the University of California, Berkeley and all other materials were returned to Sequoia National Park. The human remains held at the University of California, Berkeley, and their associated funerary objects held by the NPS, were repatriated in 1991. Additional human remains were discovered in the Berkeley collections and repatriated by SEKI in 2005. In 2022, human remains were identified in faunal materials from the Hospital Rock site. A review of the archeological and curatorial records also identified associated funerary objects. The 715 associated funerary objects are 180 pottery sherds, one baked clay fragment, one clay knob, 104 bone and shell beads, 50 awls, three bone needles, one decorated bone tube, 33 shell fragments, seven shell pendants, three pieces of worked antler and animal bone, one bone paddle, 10 animal bone fragments, two animal teeth, four fragments of wattle and daub, 45 steatite beads, five steatite pendant fragments, 41 steatite sherds, one arrow shaft straightener, three round stones, four rubbing stones, four stone paddles, 10 manos, 105 projectile points, three projectile point blanks, seven lithic cores, 25 stone knives, 35 scrapers, one obsidian drill, five pieces of worked stone, one blue glass bead, five yellow ochre fragments, and 15 red ochre fragments.

Cultural affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, historical information, oral tradition, and expert opinion.

Determinations

Pursuant to NAGPRA and its implementing regulations, and after consultation with the appropriate Indian Tribes and Native Hawaiian organizations, SEKI has determined that:

• The human remains described in this notice represent the physical remains of four individuals of Native American ancestry.

• The 715 objects described in this notice are reasonably believed to have been placed with or near individual human remains at the time of death or later as part of the death rite or ceremony.

• There is a relationship of shared group identity that can be reasonably traced between the human remains and associated funerary objects described in this notice and the Big Sandy Rancheria of Western Mono Indians of California; Cold Springs Rancheria of Mono Indians of California; Northfork Rancheria of Mono Indians of California; Picayune Rancheria of Chukchansi Indians of California; Santa Rosa Indian Community of the Santa Rosa Rancheria, California; Table Mountain Rancheria; Tule River Indian Tribe of the Tule River Reservation, California; and the Tuolumne Band of Me-Wuk Indians of the Tuolumne Rancheria of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 30, 2023. If competing requests for repatriation are received, SEKI must determine the most appropriate requestor prior to repatriation. Requests for joint repatriation of the human remains and associated funerary objects are considered a single request and not competing requests. SEKI is responsible for sending a copy of this notice to the Indian Tribes and Native Hawaiian organizations identified in this notice.

Authority: Native American Graves Protection and Repatriation Act, 25 U.S.C. 3003, and the implementing regulations, 43 CFR 10.9, § 10.10, and § 10.14.

Dated: September 25, 2023.
Melanie O'Brien,
Manager, National NAGPRA Program.

[FR Doc. 2023-21384 Filed 9-28-23; 8:45 am]

BILLING CODE 4312-52-P